DEPARTMENT OF ENERGY

Federal Energy Regulatory Commission

[Project No. 9691-004]

Matthew W. Foley, Elizabeth E. Rapalee; 8 Church Lane, LLC; Notice of Transfer of Exemption

1. By letter filed August 24, 2017, Matthew W. Foley informed the Commission that the exemption from licensing for the Wadhams Hydroelectric Project No. 9691, originally issued August 13, 1986 ¹ has been transferred to 8 Church Lane, LLC. The project is located on the Boquet River in Essex County, New York. The transfer of an exemption does not require Commission approval.

¹ Order Granting Exemption From Licensing (5 MW or Less). Matthew W. Foley and Elizabeth E. Rapalee, 36 FERC 62,190 (1986).

2. 8 Church Lane, LLC is now the exemptee of the Wadhams Hydroelectric Project No. 9691. All correspondence should be forwarded to: Mr. Matthew W. Foley and Ms. Elizabeth E. Rapalee, 8 Church Lane, LLC, 2531 County Route 10, Wadhams, NY 12993, Phone: 518-962-4514, Cell: 518-524-4240, Email: matt.foley@westelcom.com.

Dated: November 14, 2017.
Kimberly D. Bose,
Secretary.

[FR Doc. 2017-25091 Filed 11-17-17; 8:45 am]

BILLING CODE 6717-01-P